DEPARTMENT OF TRANSPORTATION

Coast Guard

[USCG 2001-8629]

Information Collection Under Review by the Office of Management and Budget (OMB); Correction

AGENCY: Coast Guard, DOT.

ACTION: Notice; correction.

SUMMARY: The Coast Guard published a notice in the Federal Register of February 16, 2001, concerning request for comments on several collections of information. The notice contained an incorrect docket number.

FOR FURTHER INFORMATION CONTACT: Barbara Davis, Office of Information Management, 202-267-2326.

Correction

In the Federal Register of February 16, 2001, in FR Doc. 01-3898, on page 10768, correct the “docket number” to read [USCG 2001-8629] in the following places: (1) column 2, the heading; (2) column 2, ADDRESSES, line 3; and (3) column 3, Request for Comments, line 6.

Dated: April 5, 2001.
J. E. Evans,
Acting Director of Information and Technology.

[FR Doc. 01-9179 Filed 4-12-01; 8:45 am]

BILLING CODE 4910-15-P